DEPARTMENT OF ENERGY

Federal Energy Regulatory Commission

[Project No. 11834-068]

Notice of Application for Amendment of License, Soliciting Comments, Motions To Intervene, and Protests; Brookfield White Pine Hydro, LLC

Take notice that the following hydroelectric application has been filed with the Commission and is available for public inspection:

a. Type of Proceeding: Application for amendment of license.

b. Project No.: 11834-068.

c. Date Filed: August 28, 2018.

d. Licensee: Brookfield White Pine Hydro, LLC.

e. Name of Project: Upper and Middle Dams Storage Project.

f. Location: The project is located on the Rapid River in Oxford and Franklin counties, Maine.

g. Filed Pursuant to: Federal Power Act, 16 U.S.C. 791a—825r.

h. Licensee Contact: Ms. Kelly Maloney, Brookfield Renewable, 150 Main Street, Lewiston, ME, (207) 233-1995, Kelly.maloney@brookfieldrenewable.com.

i. FERC Contact: Ms. Rebecca Martin, (202) 502-6012, Rebecca.martin@ferc.gov.

j. Deadline for filing comments, interventions, and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-11834-068.

k. Description of Project Facilities: The project includes two developments: Upper Dam, which impounds Mooselookmeguntic Lake, and Middle Dam, which impounds Richardson Lake. The two dams operate as a single water storage project to regulate flows to the Androscoggin River for downstream hydroelectric generation, reduction of flood flows, and other beneficial uses. The proposed work would only occur at Middle Dam. Project works at the Middle Dam Development consist of the 244-foot-long Middle Dam equipped with a gatehouse containing: (a) Three 15-foot-wide by 12-foot-deep sluice gates: (b) five 6-foot-wide by 14.7-foot-deep gates; (c) six 7-foot-wide 14.7-foot-deep shoal gates; and (d) six 9-foot-wide by 12.3-foot deep spillway gates; a 560-foot-long earthen dike extending north of the gatehouse; a 200-foot-long earthen dike extending south of the gatehouse; the 7,470 acre reservoir; the 180-foot-long earthen dike (Black Cat Dike) located 2,000 feet to the southeast of Middle Dam; and appurtenant facilities.

l. Description of Request: The licensee has filed a copy of its application with the Maine Land Use Planning Commission and the US Army Corps of Engineers for its proposed replacement of the spillway at the Middle Dam Development. Replacement of the Middle Dam Development spillway is being required under Part 12 of the Commission's regulations for safety of water power projects and project works. The proposal involves a multi-year, phased approach beginning with the installation of a bypass gate to pass all river flow during the removal of the existing dam and installation of the new dam. Black Cat Dike embankment would also be modified to meet Commission requirements. The proposed measures would not alter the basic footprint of the existing dam or involve substantial modification of the licensed operation of the project. Work is proposed to begin in May 2019 and be completed by December 15, 2023.

m. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments—Federal, state, and local agencies are invited to file comments on the described proceeding. If any agency does not file comments within the time specified for filing comments, it will be presumed to have no comments.

Dated: September 26, 2018.
Nathaniel J. Davis, Sr.,
Deputy Secretary.

[FR Doc. 2018-21414 Filed 10-1-18; 8:45 am]

BILLING CODE 6717-01-P